DEPARTMENT OF THE INTERIOR

Bureau of Land Management

[NM-920-1310-06; NMNM 112261; NMNM 112262]

Proposed Reinstatement of Terminated Oil and Gas Leases NMNM 112261 and NMNM 112262

AGENCY: Bureau of Land Management, Interior.

ACTION: Notice of reinstatement of terminated oil and gas leases.

SUMMARY: Under the provisions of Public Law 97-451, Elk Oil Company timely filed a petition for reinstatement of oil and gas leases NMNM 112261and NMNM 112262 for lands in Chaves County, New Mexico, and was accompanied by all required rentals and royalties accruing from October 1, 2005, the date of the terminations.

FOR FURTHER INFORMATION CONTACT: Becky C. Olivas, BLM, New Mexico State Office, (505) 438-7609.

SUPPLEMENTARY INFORMATION: No valid lease has been affecting the lands. The lessee has agreed to new lease terms for rentals and royalties at rates of $10.00 per acre or fraction thereof and 16⅔ percent, respectively. The lessee has paid the required $500.00 administrative fees and has reimbursed the Bureau of Land Management for the cost of this Federal Register notice.

The lessee has met all the requirements for reinstatement of the leases as set out in Sections 31(d) and (e) of the Mineral Lease Act of 1920 (30 U.S.C. 188), and the Bureau of Land Management is proposing to reinstate the leases effective October 1, 2005, subject to the original terms and conditions of the leases and the increased rentals and royalty rates cited above.

Becky C. Olivas,
Land Law Examiner, Fluids Adjudication Team 1.

[FR Doc. E6-3710 Filed 3-14-06; 8:45 am]

BILLING CODE 4310-FB-P